DEPARTMENT OF HOMELAND SECURITY

Coast Guard

33 CFR Part 100

[Docket Number USCG-2015-0219]

RIN 1625-AA08

Special Local Regulations: 86th Major League Baseball (MLB) All-Star Week/Game, Ohio River Mile 469.5 to 471.2; Cincinnati, OH

AGENCY: Coast Guard, DHS.

ACTION: Notice of proposed rulemaking.

SUMMARY: The Coast Guard proposes to establish a special local regulation for all waters of the Ohio River, surface to bottom, extending from Ohio River mile 469.5 to 471.2 at Cincinnati, OH July 10, 2015 through July 14, 2015. This special local regulation is necessary to protect persons and property from potential damage and safety hazards during the “86th Major League Baseball (MLB) All-Star Week/Game”, an event which will likely involve a high density of boater traffic in the river miles specified. This proposed special local regulation is intended to temporarily restrict vessel traffic in a portion of the Ohio River during this event and implement a moving security zone for certain vessel traffic within the special local regulated zone.

DATES: Comments and related material must be received by the Coast Guard on or before June 1, 2015.

ADDRESSES: You may submit comments identified by docket number using any one of the following methods:

(1) Federal eRulemaking Portal: http://www.regulations.gov.

(2) Fax: 202-493-2251.

(3) Mail or Delivery: Docket Management Facility (M-30), U.S. Department of Transportation, West Building Ground Floor, Room W12-140, 1200 New Jersey Avenue SE., Washington, DC 20590-0001. Deliveries accepted between 9 a.m. and 5 p.m., Monday through Friday, except federal holidays. The telephone number is 202-366-9329.

See the “Public Participation and Request for Comments” portion of the SUPPLEMENTARY INFORMATION section below for further instructions on submitting comments. To avoid duplication, please use only one of these three methods.

FOR FURTHER INFORMATION CONTACT: If you have questions on this rule, call or email Petty Officer James Robinson, Sector Ohio Valley, U.S. Coast Guard; telephone (502) 779-5432, email James.C.Robinson@uscg.mil or Petty Officer Caloeb Gandy, Sector Ohio Valley, U.S. Coast Guard; telephone (502) 779-5346, email Caloeb.L.Gandy@uscg.mil If you have questions on viewing or submitting material to the docket, call Cheryl Collins, Program Manager, Docket Operations, telephone (202) 366-9826.

SUPPLEMENTARY INFORMATION:

Table of Acronyms

COTP Captain of the Port

DHS Department of Homeland Security

FR Federal Register

NPRM Notice of Proposed Rulemaking

A. Public Participation and Request for Comments

We encourage you to participate in this rulemaking by submitting comments and related materials. All comments received will be posted without change to http://www.regulations.gov and will include any personal information you have provided.

1. Submitting Comments

If you submit a comment, please include the docket number for this rulemaking, indicate the specific section of this document to which each comment applies, and provide a reason for each suggestion or recommendation. You may submit your comments and material online at http://www.regulations.gov, or by fax, mail, or hand delivery, but please use only one of these means. If you submit a comment online, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov, type the docket number [USCG-2015-0219] in the “SEARCH” box and click “SEARCH.” Click on “Submit a Comment” on the line associated with this rulemaking.

If you submit your comments by mail or hand delivery, submit them in an unbound format, no larger than 8½ by 11 inches, suitable for copying and electronic filing. If you submit comments by mail and would like to know that they reached the Facility, please enclose a stamped, self-addressed postcard or envelope. We will consider all comments and material received during the comment period and may change the rule based on your comments.

2. Viewing Comments and Documents

To view comments, as well as documents mentioned in this preamble as being available in the docket, go to http://www.regulations.gov, type the docket number (USCG-2015-0219) in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public Meeting

We do not now plan to hold a public meeting. But you may submit a request for one, using one of the methods specified under ADDRESSES. Please explain why you believe a public meeting would be beneficial. If we determine that one would aid this rulemaking, we will hold one at a time and place announced by a later notice in the Federal Register.

B. Regulatory History and Information

The Captain of the Port (COTP) Ohio Valley is proposing to establish a special local regulation for all waters of the Ohio River, surface to bottom, extending from Ohio River mile 469.5 to 471.2 at Cincinnati, OH July 10, 2015 through July 14, 2015. This special local regulation is necessary to protect persons and property from potential damage and safety hazards during the “86th MLB All-Star Week/Game”, which may involve high density of boater traffic in the river miles specified. This proposed special local regulation is intended to temporarily restrict vessel traffic in a portion of the Ohio River during this event and implement a moving security zone for certain vessel traffic within the special local regulated zone. There is no regulatory history related to this proposed special local regulation or the event triggering a need for the proposed special local regulation.

C. Basis and Purpose

The Coast Guard's authority for establishing a special local regulation for marine events is contained at 33 U.S.C. 1233.

Major League Baseball is holding the “86th All-Star Week/Game” July 10, 2015 through July 14, 2015. This event is planned to take place at the Great American Ballpark in the vicinity of the waters of the Ohio River, at Cincinnati, OH. Based on the need for additional safety measures to protect persons and property during this event on the waterway, the Coast Guard proposes to establish a special local regulation on specified waters of the Ohio River. The proposed special local regulation would be in effect from July 10, 2015 through July 14, 2015 and would encompass all waters of the Ohio River, mile 469.5-471.2.

D. Discussion of Proposed Rule

The Captain of the Port (COTP) Ohio Valley is proposing to establish a special local regulation for all waters of the Ohio River, surface to bottom, extending from Ohio River mile 469.5 to 471.2 at Cincinnati, OH July 10, 2015 through July 14, 2015. This special local regulation is necessary to protect persons and property from potential damage and safety hazards during the “86th MLB All-Star Week/Game”, an event which will likely involve a high density of boater traffic in the river miles specified. This proposed special local regulation is intended to temporarily restrict vessel traffic in a portion of the Ohio River and implement a moving security zone for certain vessel traffic within the special local regulated zone during this event in order to promote the safety of life and property on the navigable waterway. There is no regulatory history related to this proposed special local regulation or the event triggering a need for the proposed special local regulation.

The effect of this proposed rule will be to restrict general navigation during the event. Vessels intending to transit the Ohio River through the designated mile markers will only be allowed to transit the area when the COTP Ohio Valley, or a designated representative, has deemed it safe to do so or at the completion of the event each day.

E. Regulatory Analyses

We developed this proposed rule after considering numerous statutes and executive orders related to rulemaking. Below we summarize our analyses based on a number of these statutes or executive orders.

1. Regulatory Planning and Review

This proposed rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those Orders. This proposed special local regulation restricts transit on the Ohio River from mile 469.5 to 471.2, for a short duration of four days; Broadcast Notices to Mariners and Local Notices to Mariners will also inform the community of this special local regulation so that they may plan accordingly for this short restriction on transit. Vessel traffic may request permission from the COTP Ohio Valley or a designated representative to enter the restricted area.

2. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule will not have a significant economic impact on a substantial number of small entities.

This proposed rule will affect the following entities, some of which may be small entities: The owners or operators of vessels intending to transit mile marker 469.5 to 471.2 on the Ohio River, from July 10, 2015 through July 14, 2015. The special local regulation will not have a significant economic impact on a substantial number of small entities for the following reasons. This special local regulation will be in effect for a limited duration for a period of four days. Although, the regulation would apply to the entire width of the river, traffic would be allowed to pass through the regulated area with the permission of the COTP Ohio Valley or a designated representative or at the completion of the event each day. Broadcast Notices to Mariners will also inform the community of this special local regulation so that they may plan accordingly for temporary restrictions on transit.

If you think that your business, organization, or governmental jurisdiction qualifies as a small entity and that this rule would have a significant economic impact on it, please submit a comment (see ADDRESSES) explaining why you think it qualifies and how and to what degree this rule would economically affect it.

3. Assistance for Small Entities

Under section 213(a) of the Small Business Regulatory Enforcement Fairness Act of 1996 (Pub. L. 104-121), we want to assist small entities in understanding this proposed rule. If the rule would affect your small business, organization, or governmental jurisdiction and you have questions concerning its provisions or options for compliance, please contact the person listed in the FOR FURTHER INFORMATION CONTACT, above. The Coast Guard will not retaliate against small entities that question or complain about this proposed rule or any policy or action of the Coast Guard.

4. Collection of Information

This proposed rule will not call for a new collection of information under the Paperwork Reduction Act of 1995 (44 U.S.C. 3501-3520).

5. Federalism

A rule has implications for federalism under Executive Order 13132, Federalism, if it has a substantial direct effect on the States, on the relationship between the national government and the States, or on the distribution of power and responsibilities among the various levels of government. We have analyzed this proposed rule under that Order and determined that this rule does not have implications for federalism.

6. Protest Activities

The Coast Guard respects the First Amendment rights of protesters. Protesters are asked to contact the person listed in the FOR FURTHER INFORMATION CONTACT section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the effects of this rule elsewhere in this preamble.

8. Taking of Private Property

This proposed rule would not cause a taking of private property or otherwise have taking implications under Executive Order 12630, Governmental Actions and Interference with Constitutionally Protected Property Rights.

9. Civil Justice Reform

This proposed rule meets applicable standards in sections 3(a) and 3(b)(2) of Executive Order 12988, Civil Justice Reform, to minimize litigation, eliminate ambiguity, and reduce burden.

10. Protection of Children From Environmental Health Risks

We have analyzed this proposed rule under Executive Order 13045, Protection of Children from Environmental Health Risks and Safety Risks. This rule is not an economically significant rule and would not create an environmental risk to health or risk to safety that might disproportionately affect children.

11. Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

12. Energy Effects

This proposed rule is not a “significant energy action” under Executive Order 13211, Actions Concerning Regulations That Significantly Affect Energy Supply, Distribution, or Use.

13. Technical Standards

This proposed rule does not use technical standards. Therefore, we did not consider the use of voluntary consensus standards.

14. Environment

We have analyzed this proposed rule under Department of Homeland Security Management Directive 023-01 and Commandant Instruction M16475.lD, which guide the Coast Guard in complying with the National Environmental Policy Act of 1969 (NEPA) (42 U.S.C. 4321-4370f), and have made a preliminary determination that this action is one of a category of actions that do not individually or cumulatively have a significant effect on the human environment. This proposed rule involves a special local regulation involving a high media event and the potential for high boating traffic. This rule is categorically excluded from further review under paragraph 34(h) of Figure 2-1 of the Commandant Instruction. A preliminary environmental analysis checklist supporting this determination and a Categorical Exclusion Determination are available in the docket where indicated under ADDRESSES. We seek any comments or information that may lead to the discovery of a significant environmental impact from this proposed rule.

List of Subjects in 33 CFR Part 100

Marine safety, Navigation (water), Reporting and recordkeeping requirements, and Waterways.

For the reasons discussed in the preamble, the U.S. Coast Guard proposes to amend 33 CFR part 100 as follows:

PART 100—SAFETY OF LIFE ON NAVIGABLE WATERWAYS

1. The authority citation for part 100 continues to read as follows:

Authority: 33 U.S.C. 1233.

2. Section 100.35T08-0219 is added to read as follows:

§ 100.35T08-0219 Special Local Regulation; Ohio River, Miles 469.5 to 471.2, Cincinnati, OH.

(a) Location. The following area is a special local regulation: All waters of the Ohio River, beginning at mile marker 469.5 to mile 471.2 at Cincinnati, OH.

(b) Enforcement date. This section is enforceable from: July 10, 2015 through July 14, 2015.

Dated: April 22, 2015.
R.V. Timme,
Captain, U.S. Coast Guard, Captain of the Port Ohio Valley.

[FR Doc. 2015-12122 Filed 5-18-15; 8:45 am]

BILLING CODE 9110-04-P